DEPARTMENT OF THE INTERIOR

Bureau of Land Management

[OR-958-1430-ET; OR-56288]

Notice of Proposed Withdrawal; Oregon

AGENCY: Bureau of Land Management, Interior.

ACTION: Notice.

SUMMARY: The Secretary of Interior proposes to withdraw approximately 151,970 acres of Federal lands, to protect the nationally significant ecological and biological values of the Siskiyou Wild Rivers area. Subject to valid existing rights, this notice segregates the Federal lands described below for up to 2 years from location and entry under the mining laws. The lands have been and will remain open to the public land laws and mineral leasing laws unless closed by other segregations of record.

FOR FURTHER INFORMATION CONTACT: Mike Barnes, Oregon State Office, Bureau of Land Management, 503-952-6155.

ADDRESSES: State Director, Oregon State Office, Bureau of Land Management, P.O. Box 2965, Portland, Oregon 97208-2965.

SUPPLEMENTARY INFORMATION: The purpose of the proposed withdrawal is to protect the nationally significant ecological and biological diversity of the Siskiyou Wild Rivers area while it is determined whether special management designation for the area is warranted and to assess the views of the public on such a designation. The Siskiyou Wild Rivers area also contains outstanding scenic and recreation values and special status plant and animal species and their habitats. The proposal, if finalized, would withdraw, subject to valid existing rights, the following described Federal lands and, if acquired by the United States, any non-Federal lands within the area, from location and entry under the mining laws. The Federal lands have been and will remain open to the public land laws and the mineral leasing laws, subject to other segregations of record:

1. The Federal lands proposed for withdrawal are described as:

Williamette Meridian

T. 37 S., R. 6 W.,

sec. 31, W½.

T. 38 S., R. 6 W.,

sec. 30, S½;

sec. 31.

T. 39 S., R. 6 W.,

sec. 5, E½;

secs. 6 and 8.

T. 33 S., R. 7 W.,

secs. 18, 19, 30, and 31.

T. 34 S., R. 7 W.,

secs. 6, 7, 18, 19, 30, and 31.

T. 35 S., R. 7 W.,

secs. 3 to 10, inclusive, and secs. 15, 17, 18 and 19;

sec. 20, W½.

T. 39 S., R. 7 W.,

sec. 1, E½;

sec. 2.

T. 32 S., R. 8 W.,

sec. 31.

T. 33 S., R. 8 W.,

secs. 5 to 36, inclusive.

Tps. 34 and 35 S., R. 8 W., inclusive.

T. 38 S., R. 8 W.,

secs. 9, 15, 21, and 28.

T. 39 S., R. 8 W.,

sec. 31.

T. 40 S., R. 8 W.,

secs. 7, 10, 15, and secs. 17 to 20 inclusive;

sec. 22, N½;

sec. 33, S½ NE¼ and S½;

sec. 34.

T. 32 S., R. 9 W.,

sec. 8, S½;

secs. 3 to 35, inclusive.

Tps. 33, 34, and 35 S., R. 9 W., inclusive.

T. 41 S., R. 9 W.,

sec. 9.

Tps. 32, 33 and 34 S., R. 10 W., inclusive.

T. 32 S., R. 11 W., inclusive.

The areas described aggregate approximately 151,970 acres, more or less, in Curry, Coos, Josephine, and Douglas Counties.

2. For a period of 90 days from the date of publication of this notice, all persons who wish to submit comments, suggestions, or objections in connection with the proposed withdrawal may present their views in writing to the State Director at the address indicated above.

3. Notice is hereby given that an opportunity for a public meeting is afforded in connection with the proposed withdrawal. All interested persons who desire a public meeting for the purpose of being heard with respect to the proposed withdrawal must submit a written request to the State Director at the address indicated above within 90 days from the date of publication of this notice. Upon determination by the authorized officer that a public meeting will be held, a notice of the time and place will be published in the Federal Register at least 30 days before the scheduled date of the meeting.

The application will be processed in accordance with the regulations set fourth in 43 CFR 2300. For a period of 2 years from the date of publication of this notice in the Federal Register, the lands will be segregated as specified above unless the application is denied or canceled or the withdrawal is approved prior to that date. The temporary land uses which may be permitted during the segregative period include licenses, permits, rights-of-way, and disposal of vegetative resources other than under the mining law.

Dated: January 16, 2001.
Ray Brady,
Manager, Lands and Realty Group.

[FR Doc. 01-1703 Filed 1-19-01; 8:45 am]

BILLING CODE 4310-33-M